DEPARTMENT OF COMMERCE

National Oceanic and Atmospheric Administration

[I.D. 100506F]

New England Fishery Management Council; Public Meeting

AGENCY: National Marine Fisheries Service (NMFS), National Oceanic and Atmospheric Administration (NOAA), Commerce.

ACTION: Notice of cancellation and rescheduling of a public meeting.

SUMMARY: The New England Fishery Management Council (Council) has cancelled the public meeting of its Habitat/Marine Protected Area (MPA)/Ecosystem Committee that was scheduled in October, 2006. The new meeting is rescheduled for November, 2006 to consider actions affecting New England fisheries in the exclusive economic zone (EEZ). Recommendations from this group will be brought to the full Council for formal consideration and action, if appropriate.

DATES: The meeting will be held on Tuesday, November 14, 2006, at 9 a.m.

ADDRESSES: The meeting will be held at the Tavern on the Harbor, 30 Western Avenue, Gloucester, MA 01930; telephone: (978) 283-4200; fax: (978) 283-0204.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The initial notice was published in the Federal Register on October 12, 2006, (71 FR 60109) but the meeting has been rescheduled due to conflicts. At the rescheduled meeting the committee will review the PDT's recommendations for a Great South Channel Habitat Area of Particular Concern (HAPC) alternative and potentially recommend an additional HAPC alternative to the Council for inclusion in the Draft Supplemental Environmental Impact Statement (DSEIS) for the Essential Fish Habitat (EFH) Omnibus Amendment. The committee will also receive a briefing on current EFH consultations on non-fishing impact projects in the Northeast. Other topics may be covered at the committee's discretion.

Although non-emergency issues not contained in this agenda may come before this group for discussion, those issues may not be the subject of formal action during this meeting. Action will be restricted to those issues specifically listed in this notice and issues arising after publication of this notice that require emergency action under secion 305(c) of the Magnuson-Stevens Act, provided the public has been notified of the Council's intent to take final action to address the emergency.

Special Accommodations

This meeting is physically accessible to people with disabilities. Requests for sign language interpretation or other auxiliary aids should be directed to Paul J. Howard, Executive Director, at 978-465-0492, at least 5 days prior to the meeting date.

Authority: 16 U.S.C. 1801 et seq.

Dated: October 24, 2006.
Tracey L. Thompson,
Acting Director, Office of Sustainable Fisheries, National Marine Fisheries Service.

[FR Doc. E6-18026 Filed 10-26-06; 8:45 am]

BILLING CODE 3510-22-S